ENVIRONMENTAL PROTECTION AGENCY

[FRL-9903-05-OCFO]

Meeting of the Environmental Financial Advisory Board; Public Meeting

AGENCY: Environmental Protection Agency (EPA).

ACTION: Notice of open meeting of the Environmental Financial Advisory Board.

SUMMARY: The United States Environmental Protection Agency's (EPA) Environmental Financial Advisory Board (EFAB) will hold a public meeting on December 12-13, 2013. EFAB is an EPA advisory committee chartered under the Federal Advisory Committee Act (FACA) to provide advice and recommendations to EPA on creative approaches to funding environmental programs, projects, and activities. This meeting, originally scheduled for October 22-23, 2013, is rescheduled because of the government shutdown.

The purpose of this meeting is to hear from informed speakers on environmental finance issues, proposed legislation, and EPA priorities; to discuss activities, progress, and preliminary recommendations with regard to current EFAB work projects; and to consider requests for assistance from EPA offices.

Environmental finance discussions, and presentations are expected on the following topics: tribal environmental programs; transit-oriented development in sustainable communities, energy efficiency/green house gas emissions reduction; drinking water pricing and infrastructure investment; and green infrastructure.

The meeting is open to the public; however, seating is limited. All members of the public who wish to attend the meeting must register in advance no later than Friday December 6, 2013.

DATES: The full board meeting will be held on Thursday, December 12, 2013 from 9:00 a.m. to 5 p.m., EST and Friday, December 13, 2013 from 9-12 noon., EST.

ADDRESSES: Potomac Yard North, 2777 S. Crystal Drive, Suite 4120, Arlington, VA 22202.

FOR FURTHER INFORMATION CONTACT: For information on access or services for individuals with disabilities, or to request accommodations for a person with a disability, please contact Sandra Williams, U.S. EPA, at (202) 564-4999 or williams.sandra@epa.gov, at least 10 days prior to the meeting, to allow as much time as possible to process your request.

Dated: November 12, 2013.
Joshua Baylson,
Associate Chief Financial Officer.

[FR Doc. 2013-27677 Filed 11-18-13; 8:45 am]

BILLING CODE 6560-50-P